DEPARTMENT OF ENERGY

Federal Energy Regulatory Commission

[Docket No. GT01-7-001]

Overthrust Pipeline Company; Notice of Tariff Filing

February 28, 2001.

Take notice that on February 20, 2001, Overthrust Pipeline Company (Overthrust) tendered for filing as part of its FERC Gas Tariff, First Revised Volume No. 1-A, Third Revised Sheet No. 56, to be effective February 12, 2001.

Overthrust stated that the purpose of this filing was to comply with the Commission's February 12, 2001, order in Docket No. GT01-7-000, wherein the Commission approved certain tariff sheets and rejected Sheet No. 56 without prejudice to Overthrust filing a correctly paginated version. Therefore, Overthrust has modified the pagination of Sheet No. 56.

Overthrust states that a copy of this filing has been served upon its customers, the Public Service Commission of Utah, and the Public Service Commission of Wyoming.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestant parties to the proceedings. Copies of this filing are on file with the Commission and are available for public inspection in the Public Reference Room. This filing may be viewed on the web at http://www.ferc.fed.us/online/rims.htm (call 202-208-2222 for assistance).

Comments and protests may be filed electronically via the internet in lieu of paper. See, 18 CFR 385.2001(a)(1)(iii) and the instructions on the Commission's web site at http://www.ferc.fed.us/efi/doorbell.htm.

David P. Boergers,
Secretary.

[FR Doc. 01-5343 Filed 3-5-01; 8:45 am]

BILLING CODE 6717-01-M